DEPARTMENT OF ENERGY

Federal Energy Regulatory Commission

Notice of Application Accepted for Filing and Soliciting Motions To Intervene and Protest

April 9, 2002.

Take notice that the following hydroelectric application has been filed with the Commission and is available for public inspection:

a. Type of Application: New Major License.

b. Project No.: 233-081.

c. Date filed: October 19, 2001.

d. Applicant: Pacific Gas and Electric Company.

e. Name of Project: Pit 3, 4, 5 Project.

f. Location: On the Pit River, in Shasta County, near the community of Burney and the Intermountain towns of Fall River Mills and McArthur, California. The project includes 746 acres of lands of the United States, which are administered by the Forest Supervisor of the Shasta Trinity National Forest and the Forest Supervisor of the Lassen National Forest.

g. Filed Pursuant to: Federal Power Act, 16 USC §§ 791(a)-825(r).

h. Applicant Contact: Mr. Randal Livingston, Lead Director, Hydro Generation Department, Pacific Gas and Electric Company, P.O. Box 770000, N11C, San Francisco, CA 94177, (415) 973-6950.

i. Commission Contact: Any questions concerning this notice should be addressed to John Mudre, e-mail address john.mudre@ferc.fed.us, or telephone (202) 219-1208.

j. Deadline for filing motions to intervene and protest: 60 days from the issuance date of this notice.

All documents (original and eight copies) should be filed with: Magalie R. Salas, Secretary; Federal Energy Regulatory Commission; 888 First Street, NE.; Washington, DC 20426. Please include the project number (Project No. 233-081) on any comments or motions filed.

The Commission's rules of practice and procedure require all interveners filing documents with the Commission to serve a copy of that document on each person whose name appears on the official service list for the project. Further, if an intervener files comments or documents with the Commission relating to the merits of an issue that may affect the responsibilities of a particular resource agency, they must also serve a copy of the document on that resource agency.

Motions to Intervene and Protests may be filed electronically via the Internet in lieu of paper. See 18 CFR 385.2001(a)(1)(iii) and the instructions on the Commission's web site (http://www.ferc.gov) under the “e-Filing” link.

k. This application has been accepted, but is not ready for environmental analysis at this time.

l. The existing project consists of the following existing facilities: three hydraulically-connected developments, with a total of four dams, four reservoirs, three powerhouses, associated tunnels, surge chambers, and penstocks. The powerhouses contain nine generating units with a combined operating capacity of about 325 MW. No new construction is proposed.

The Pit 3 development consists of: (1) The 1,293-acre Lake Britton, with a gross storage capacity of 41,877 acre feet; (2) the Pit 3 Dam, with a crest length of 494 feet and a maximum height of 130 feet; (3) a concrete tunnel in two sections, 19 feet in diameter with a total length of about 21,000 feet; (4) a surge tank; (5) three penstocks about 10 feet in diameter and 600 feet in length; (6) a 47-foot by 194-foot reinforced concrete multilevel powerhouse; (7) three generating units, driven by three vertical Francis turbines, with a combined normal operating capacity of 70 MW; and (8) appurtenant facilities

The Pit 4 development consists of: (1) The 105-acre Pit 4 Reservoir, with a gross storage capacity of 1,970 acre feet; (2) the Pit 4 Dam, consisting of a gravity type overflow section 203 feet in length with a maximum height of 108 feet and a slab-and-buttress type section 212 feet in length with a maximum height of 78 feet; (3) a 19-foot-diameter pressure tunnel with a total length of about 21,500 feet; (4) two 12-foot-diameter penstocks about 800 feet in length; (5) a four-level 58-foot by 155-foot reinforced concrete powerhouse; (6) two generating units, driven by two vertical Francis turbines, with a combined normal operating capacity of 95 MW; and (7) appurtenant facilities.

The Pit 5 development consists of: (1) The 32-acre Pit 5 Reservoir, with a gross storage capacity of 314 acre feet; (2) the Pit 5 Dam, with a concrete gravity overflow structure 340 feet in length and a maximum height of 67 feet; (3) the 19-foot-diameter Tunnel No. 1; (4) the 48-acre Pit 5 Tunnel Reservoir, with a gross storage capacity of 1,044 acre feet; (5) the Pit 5 Tunnel Reservoir Dam, approximately 3,100 feet long and 66 feet high; (6) the 19-foot-diameter Pit 5 Tunnel No. 2; (7) four steel penstocks about 8 feet in diameter and 1,400 feet in length; (8) a 56-foot by 266.5-foot reinforced concrete multilevel powerhouse; (9) four generating units, driven by four vertical Francis turbines, with a combined normal operating capacity of 160 MW; and (10) appurtenant facilities.

m. A copy of the application is on file and available for inspection and reproduction at the Commission's Public Reference Room, located at 888 First Street, NE., Room 2A, Washington, DC 20426, or by calling (202) 208-1371. The application may be viewed on the web at http://www.ferc.gov using the “RIMS” link—select “Docket #” and follow the instructions (call (202) 208-2222 for assistance). A copy is also available for inspection and reproduction at the address in item h above.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must: (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. 02-9026 Filed 4-12-02; 8:45 am]

BILLING CODE 6717-01-P